DEPARTMENT OF ENERGY

Federal Energy Regulatory Commission

[Docket No. EC01-72-000, et al.]

Consolidated Edison Company, et al.; Electric Rate and Corporate Regulation Filings

March 2, 2001.

Take notice that the following filings have been made with the Commission:

1. Consolidated Edison Company of New York, Inc. and Entergy Nuclear Indian Point 2, LLC

[Docket No. EC01-72-000]

Take notice that on February 23, 2001, Consolidated Edison Company of New York, Inc. (Con Edison) and Entergy Nuclear Indian Point 2, LLC (ENIP2) filed with the Federal Energy Regulatory Commission an application pursuant to section 203 of the Federal Power Act for authorization of a disposition of jurisdictional facilities whereby Con Edison will divest, and ENIP2 will acquire, for cash and other consideration, Indian Point Generating Station Unit 1, which is retired, Indian Point Generating Station Unit 2, a 941 Megawatt (MW) pressurized water reactor, Indian Point Gas Turbine Units 1, 2 and 3, which together comprise 47 MW, and the Toddville Training Center. The total generation capacity of the generation assets is 988 MW. Pursuant to section 203 of the Federal Power Act, Federal Energy Regulatory Commission approval is required for both Con Edison's divestiture and ENIP2's acquisition of the jurisdictional assets.

Comment date: March 16, 2001, in accordance with Standard Paragraph E at the end of this notice.

2. Kansas City Power & Light Company

[Docket No. EC01-74-000]

Take notice that on February 23, 2001, Kansas City Power & Light Company (KCPL) filed with the Federal Energy Regulatory Commission (Commission), an application pursuant to section 203 of the Federal Power Act and Part 33 of the Commission's Regulations for authorization to implement a new holding company structure. The Applicant states that the proposed transaction is an internal corporate reorganization that raises no issues under the Commission's Merger Guidelines.

Comment date: March 16, 2001, in accordance with Standard Paragraph E at the end of this notice.

3. Mountain View Power Partners II, LLC

[Docket No. EG01-135-000]

Take notice that on February 27, 2001, Mountain View Power Partners II, LLC (Mountain View II), whose sole member is currently SeaWest WindPower, Inc., located at 1455 Frazee Road, San Diego, California, 92108, filed with the Federal Energy Regulatory Commission an application for determination of exempt wholesale generator status pursuant to Part 365 of the Commission's regulations.

Mountain View II will construct, own or lease and operate a wind-powered generating facility with a maximum planned output of 22.2 MW in the San Gorgonio Pass of Riverside County, California, near the City of Palm Springs. The proposed wind power plant is expected to deliver test power to the grid no later than April 1, 2001 and to commence commercial operations by June 2001.

Comment date: March 23, 2001, in accordance with Standard Paragraph E at the end of this notice. The Commission will limit its consideration of comments to those that concern the adequacy or accuracy of the application.

4. Black Hills Generation, Inc., (Formerly Wygen, Inc.)

[Docket No. EG01-136-000]

Take notice that on February 23, 2001 Black Hills Generation, Inc. (BHG) filed with the Federal Energy Regulatory Commission an application for determination of exempt wholesale generator status pursuant to Part 365 of the Commission's regulations. The eligible facilities include an 80 MW coal plant and a 40 MW combustion turbine both located in Campbell County, Wyoming near Gillette, Wyoming. BHG's principal business offices are located at 625 Ninth Street, P.O. Box 1400, Rapid City, SD 57709.

Comment date: March 23, 2001, in accordance with Standard Paragraph E at the end of this notice.

5. Reliant Energy Aurora, LP

[Docket No. ER01-687-002]

Take notice that on February 27, 2001 Reliant Energy Aurora, LP (Reliant Aurora) tendered for filing its FERC Electric Rate Schedule No. 1 authorizing Reliant Aurora to make sales at market-based rates.

Reliant Aurora has requested this rate schedule become effective on February 1, 2001.

Comment date: March 20, 2001, in accordance with Standard Paragraph E at the end of this notice.

6. Ameren Services Company

[Docket No. ER01-1331-000]

Take notice that on February 27, 2001, Ameren Services Company (ASC) tendered for filing a Transmission System Interconnection Agreement and Parallel Operating Agreement between ASC and Duke Energy Audrain, LLC. ASC asserts that the purpose of the Agreement is to permit ASC to provide transmission service to Duke Energy Audrain, LLC pursuant to Ameren's Open Access Tariff.

Comment date: March 20, 2001, in accordance with Standard Paragraph E at the end of this notice.

7. Central Vermont Public Service Corporation

[Docket No. ER01-1333-000]

Take notice that on February 27, 2001, Central Vermont Public Service Corporation (Central Vermont), tendered for filing executed Service Agreements for Firm Point-to-Point Transmission Service and Non-Firm Point-to-Point Transmission Service with Merchant Energy Group of the Americas, Inc. under Central Vermont's FERC Electric Tariff, First Revised Volume No. 7.

Copies of the filing were served upon the above-mentioned company and the Vermont Public Service Board.

Comment date: March 20, 2001, in accordance with Standard Paragraph E at the end of this notice.

8. Magnolia Energy LP

[Docket No. ER01-1335-000]

Take notice that on February 27, 2001, Magnolia Energy LP (Magnolia) tendered for filing an application for waivers and blanket approvals under various regulations of the Commission and for an order accepting Magnolia's Electric Rate Schedule FERC No. 1 to be effective on April 16, 2001.

Magnolia intends to engage in electric power and energy transactions as a marketer and a broker. In transactions where Magnolia sells electric energy, it proposes to make such sales on rates, terms and conditions to be mutually agreed to with the purchasing party. Magnolia's proposed Rate Schedule also permits it to reassign transmission capacity.

Comment date: March 20, 2001, in accordance with Standard Paragraph E at the end of this notice.

9. Mountain View Power Partners II, LLC

[Docket No. ER01-1336-000]

Take notice that on February 27, 2001, Mountain View Power Partners II, LLC (Mountain View II) applied to the Commission for acceptance of Mountain View II's Rate Schedule FERC No. 1; the granting of certain blanket approvals, including the authority to sell electric energy, capacity and ancillary services at market-based rates; and the waiver of certain Commission regulations.

Comment date: March 20, 2001, in accordance with Standard Paragraph E at the end of this notice.

10. Cinergy Capital & Trading, Inc.

[Docket No. ER01-1337-000]

Take notice that on February 27, 2001, Cinergy Capital & Trading, Inc. tendered for filing a notice of change in status to reflect its pending acquisition of Brownsville Power I, L.L.C. and Caledonia Power I, L.L.C., and amendments to its market-based rate tariff and code of conduct.

Comment date: March 20, 2001, in accordance with Standard Paragraph E at the end of this notice.

11. Commonwealth Edison Company

[Docket No. ER01-1338-000]

Take notice that on February 27, 2001, Commonwealth Edison Company (ComEd) submitted for filing a Short-Term Firm Transmission Service Agreement and a Non-Firm Transmission Service Agreement with Axia Energy, LP (Axia) under the terms of ComEd's Open Access Transmission Tariff (OATT).

ComEd requests an effective date of February 20, 2001 for the Agreements with Axia and accordingly, seeks waiver of the Commission's notice requirements.

Comment date: March 20, 2001, in accordance with Standard Paragraph E at the end of this notice.

12. San Diego Gas & Electric Company

[Docket No. ER01-1339-000]

Take notice that on February 27, 2001, San Diego Gas & Electric Company (SDG&E) tendered for filing as service agreements to its FERC Electric Tariff, First Revised Original Volume No. 6 two interconnection agreements. Both agreements relate to the interconnection of a new generation plant to be owned by Otay Mesa Generation Company, LLC (OMG). The plant, with a capacity of up to 592 megawatts, will be located in San Diego County, California and is expected to begin service in 2003.

Service Agreement No. 1 is an Interconnection Facilities Agreement dated February 16, 2001 between SDG&E and OMG, under which SDG&E will construct, operate, and maintain the proposed interconnection facilities. Service Agreement No. 2, the Interconnection Agreement between SDG&E and OMG dated February 16, 2001, establishes interconnection and operating responsibilities and associated communications procedures between the parties.

SDG&E states that copies of the filing have been served on OMG and on the California Public Utilities Commission.

Comment date: March 20, 2001, in accordance with Standard Paragraph E at the end of this notice.

13. Black Hills Corporation, n/k/a Black Hills Power, Inc.

[Docket No. ER01-1340-000]

Take notice that on February 27, 2001, Black Hills Corporation, n/k/a Black Hills Power, Inc., tendered for filing an individual long-term service agreement with Public Service Company of Colorado under Black Hills' Market-Based Rate Wholesale Power Sales Tariff, FERC Electric Tariff, Original Vol. No. 3.

Comment date: March 20, 2001, in accordance with Standard Paragraph E at the end of this notice.

14. Automated Power Exchange, Inc.

[Docket No. ER01-1359-000]

Take notice that on February 27, 2001, Automated Power Exchange, Inc. (APX) submitted for filing an annual report for 2000.

Comment date: March 20, 2001, in accordance with Standard Paragraph E at the end of this notice.

15. Otay Mesa Generating Company, LLC

[Docket No. TX01-2-000]

Take notice that on February 27, 2001, Otay Mesa Generating Company, LLC (”OMG”) applied in the above-numbered docket for an order, under Section 211 of the Federal Power Act (FPA), 16 U.S.C. 824j, compelling San Diego Gas & Electric (SDG&E) to provide interconnection and transmission service under the terms and conditions of the Transmission Control Agreement (TCA) between SDG&E and the California Independent System Operator Corporation (ISO), the Transmission Owner's Tariff, the ISO Tariff, the Interconnection Agreement (IA) between OMG and SDG&E and the Interconnection Facilities Agreement (IFA) between OMG and SDG&E, as they may be in effect from time to time. SDG&E's concurrence is submitted with this application.

OMG states that this filing has been served upon SDG&E, the Public Utilities Commission of the State of California, and the California Electricity Oversight Board.

Comment date: March 29, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-5982 Filed 3-9-01; 8:45 am]

BILLING CODE 6717-01-P